NATIONAL AERONAUTICS AND SPACE ADMINISTRATION

[01-152]

Notice of Agency Report Forms Under OMB Review

AGENCY: National Aeronautics and Space Administration (NASA).

SUMMARY: The National Aeronautics and Space Administration, as part of its continuing effort to reduce paperwork and respondent burden, invites the general public and other Federal agencies to take this opportunity to comment on proposed and/or continuing information collections, as required by the Paperwork Reduction Act of 1995 (Public Law 104-13, 44 U.S.C. 3506(c)(2)(A)). This information collection is required to ensure proper accounting of Federal funds and property provided under grants and cooperative agreements with state and local governments.

DATES: All comments should be submitted on or before January 28, 2002.

ADDRESSES: All comments should be addressed to Mr. Paul Brundage, Code HK, National Aeronautics and Space Administration, Washington, DC 20546-0001.

FOR FURTHER INFORMATION CONTACT: Ms. Nancy Kaplan, NASA Reports Officer, (202) 358-1372.

Title: Grant Programs, Intergovernmental Relations.

OMB Number: 2700-0093.

Type of review: Extension.

Need and Uses: Reporting and recordkeeping are prescribed under 14 CFR part 1274. Information collected ensures the accountability of public funds and proper maintenance of an appropriate internal control system.

Affected Public: State, Local or Tribal Government.

Number of Respondents: 16.

Responses Per Respondent: 6.

Annual Responses: 95.

Hours Per Request: 5 hrs.

Annual Burden Hours: 485.

Frequency of Report: On Occasion.

David B. Nelson,
Deputy Chief Information Officer, Office of the Administrator.

[FR Doc. 01-29646 Filed 11-28-01; 8:45 am]

BILLING CODE 7510-01-P